FEDERAL TRADE COMMISSION

16 CFR Parts 300, 301, and 303

RIN 3084-AB29, 3084-AB27, 3084-AB30

Wool Products Labeling; Fur Products Labeling; Textile Fiber Products Identification

AGENCY: Federal Trade Commission.

ACTION: Final rules.

SUMMARY: The Federal Trade Commission (“Commission” or “FTC”) amends the Rules and Regulations Under the Wool Products Labeling Act of 1939 (“Wool Rules”), the Rules and Regulations Under Fur Products Labeling Act (“Fur Rules”), and the Rules and Regulations Under the Textile Fiber Products Identification Act (“Textile Rules”) (collectively, “Rules”) to require the public to submit any requests to obtain, update, or cancel registered identification numbers via the FTC's Web site.

DATES: The amended Rules are effective October 19, 2017.

FOR FURTHER INFORMATION CONTACT: Joshua S. Millard, (202) 326-2454, Bureau of Consumer Protection, Federal Trade Commission, 600 Pennsylvania Ave. NW., Washington, DC 20580.

SUPPLEMENTARY INFORMATION:

I. Introduction

The Commission is revising the Fur, Textile, and Wool Rules to require electronic filing of requests to obtain, update, or cancel registered identification numbers used on fur, textile, and wool product labels through the FTC's Web site, unless the Commission or its designee instructs otherwise as specified below. The revisions facilitate the use of the Commission's web-based registered identification number (“RN”) system, which will streamline the application and update process for participating businesses, and greatly increase the efficiency with which the FTC delivers RN services to the public. This document describes the background of the RN program and the grounds for revising the relevant parts of the Fur, Textile, and Wool Rules, and sets forth the amended Rules provisions.

II. Background

Federal labeling requirements mandate that most fur, textile, and wool products have a label identifying the manufacturer or other business responsible for marketing or handling the item.¹ To comply with this mandate, a person or firm residing in the United States that imports, manufactures, markets, distributes, or otherwise handles fur, textile, or wool products may apply for an RN to display on product labels in lieu of the person or firm's full name.² RNs are not mandatory, but they occupy less space on a label and help buyers identify the person or firm responsible for a product. The public can find contact information for each RN registrant by searching the FTC's public Web page dedicated to the RN program, https://rn.ftc.gov.

¹ See 15 U.S.C. 68b(a)(2)(C) (Wool Products Labeling Act of 1939) (“Wool Act”); 15 U.S.C. 69b(2)(E) (Fur Products Labeling Act) (“Fur Act”); 15 U.S.C. 70b(b)(3) (Textile Fiber Products Identification Act) (“Textile Act”); 16 CFR part 300 (Wool Rules); 16 CFR part 301 (Fur Rules); 16 CFR part 303 (Textile Rules). The FTC's public Web site offers a detailed description of products that are subject to, or exempt from, these labeling requirements. See Federal Trade Commission, Threading Your Way Through the Labeling Requirements Under the Textile and Wool Acts, https://www.ftc.gov/tips-advice/business-center/guidance/threading-your-way-through-labeling-requirements-under-textile.

² See 16 CFR 300.4 (Wool Rules provision); 16 CFR 301.26 (Fur Rules provision); 16 CFR 303.30 (Textile Rules provision).

For over 50 years, to obtain or update an RN, one had to complete and submit a paper form published in the Federal Register, or in more recent years, transmit the information requested on that form by electronic means.³ The FTC receives thousands of new RN applications every year in various formats, thus complicating and slowing the review process.⁴

³ See 17 FR 6075, 6077 (July 8, 1952) (Fur Rule provision 16 CFR 301.26); 24 FR 4480, 4484 (June 2, 1959) (Textile Rule provision 16 CFR 303.20); 29 FR 6622 (May 21, 1964) (Wool Rule provision 16 CFR 300.4).

⁴ In recent years, the FTC has issued approximately 3,000 RNs per year.

Recently, the FTC upgraded its RN Web page at https://rn.ftc.gov to make it easier for the public to obtain, update, and cancel RNs. As part of this initiative, and to further improve and streamline its handling of RN requests, the FTC is retiring the paper forms previously published in the Federal Register and discontinuing the handling of RN requests submitted by mail, hand delivery, or facsimile.

The FTC's upgraded Web site allows the public to create a password-protected user account to obtain or update an RN without requiring more company information than before. To process a new RN application, the Web site asks the applicant in pertinent part to identify its legal name, the name under which it does business, the business' street address, the type of business it conducts (e.g., manufacturing or importing), the product line(s) it handles that are subject to the Fur, Textile, or Wool Acts, and additional contact information (e.g., phone number and email address). The upgraded Web site validates data as applicants enter it, and can immediately advise an applicant in numerous instances if the data is erroneous (e.g., a truncated phone number) or does not appear to meet the requirements for issuance of an RN (e.g., the applicant does not provide a street address in the United States). Users can also visit the Web site and login to request the cancellation of their RNs. Because the information requested to process RN requests has not changed, the FTC is not changing the requirements for RN requests, only specifying the method by which requests must be submitted.

The amended Rules provide that requests made by means other than the FTC's Web site will not be accepted unless otherwise indicated by the Commission or its designee. This provision affords the Commission or its designee the discretion to act on requests submitted by other means when appropriate (e.g., if the FTC's Web site is temporarily unavailable). At this time, the Commission's designee is the Associate Director of the Bureau of Consumer Protection's Division of Enforcement.

III. Procedural Requirements

Under the Administrative Procedure Act, notice and comment requirements do not apply “to interpretive rules, general statements of policy, or rules of agency organization, procedure, or practice.” 5 U.S.C. 553(b)(A). The final Rules do not change the substantive responsibilities of any entity under the Rules. The revisions merely modify the procedural mechanism for submitting requests relating to RNs. Accordingly, the Commission finds that advance public notice and comment is unnecessary. For this reason, the requirements of the Regulatory Flexibility Act (“RFA”) also do not apply.⁵

⁵ A regulatory flexibility analysis under the RFA is required only when an agency must publish a notice of proposed rulemaking for comment. See 5 U.S.C. 603.

IV. Paperwork Reduction Act

The amendments to the Rules do not constitute a new “collection of information” under the Paperwork Reduction Act, 44 U.S.C. 3501-3521 (“PRA”). The Rules contain various existing information collection requirements for which the Commission has obtained clearance under the PRA from the Office of Management and Budget. Because these amendments do not trigger additional recordkeeping, disclosure, or reporting requirements, there is no incremental burden under the PRA. See 44 U.S.C. 3501 et seq.

List of Subjects

16 CFR Part 300

Labeling, Trade practices, Wool.

16 CFR Part 301

Fur, Labeling, Trade practices.

16 CFR Part 303

Labeling, Textiles, Trade practices.

Final Rule Revisions

For the reasons set forth in the preamble, the Federal Trade Commission amends Title 16, Chapter I, Subchapter C of the Code of Federal Regulations, parts 300, 301, and 303 as follows:

PART 300—RULES AND REGULATIONS UNDER THE WOOL PRODUCTS LABELING ACT OF 1939

1. The authority citation for part 300 continues to read as follows:

Authority: 15 U.S.C. 68-68j.

2. In § 300.4, revise paragraphs (c) and (e) to read as follows:

§ 300.4 Registered identification numbers.

* * * * *

(c) Registered identification numbers shall be used only by the person or firm to whom they are issued, and such numbers are not transferable or assignable. Registered identification numbers shall be subject to cancellation whenever any such number was procured or has been used improperly or contrary to the requirements of the Acts administered by the Federal Trade Commission, and regulations in this part, or when otherwise deemed necessary in the public interest. Registered identification numbers shall be subject to cancellation if the Commission fails to receive prompt notification of any change in name, business address, or legal business status of a person or firm to whom a registered identification number has been assigned, by application duly executed in the form and manner set out in paragraph (e) of this section, reflecting the current name, business address, and legal business status of the person or firm.

* * * * *

(e) Requests for a registered identification number, to update information pertaining to an existing number, or to cancel an existing number shall be made through the Commission's Web site at https://rn.ftc.gov. Unless otherwise directed by the Commission or its designee, requests made by other means (including but not limited to email) will not be accepted and approved.

PART 301—RULES AND REGULATIONS UNDER FUR PRODUCTS LABELING ACT

3. The authority citation for part 301 continues to read as follows:

Authority: 15 U.S.C. 69 et seq.

4. In § 301.26, revise paragraphs (a), (b)(2), and (d) to read as follows:

§ 301.26 Registered identification numbers.

(a) Registered numbers for use as the required identification in lieu of the name on fur product labels as provided in section 4(2)(E) of the Act will be issued by the Commission to qualified persons residing in the United States upon receipt of an application duly executed on the Commission's Web site at https://rn.ftc.gov or by such means as the Commission or its designee may direct.

(b) * * *

(2) Registered identification numbers shall be subject to cancellation if the Federal Trade Commission fails to receive prompt notification of any change in name, business address, or legal business status of a person or firm to whom a registered identification number has been assigned, by application duly executed in the form and manner set out in paragraph (d) of this section, reflecting the current name, business address, and legal business status of the person or firm.

* * * * *

(d) Requests for a registered identification number, to update information pertaining to an existing number, or to cancel an existing number shall be made through the Commission's Web site at https://rn.ftc.gov. Unless otherwise directed by the Commission or its designee, requests made by other means (including but not limited to email) will not be accepted and approved.

PART 303—RULES AND REGULATIONS UNDER THE TEXTILE FIBER PRODUCTS IDENTIFICATION ACT

5. The authority citation for part 303 continues to read as follows:

Authority: 15 U.S.C. 70 et seq.

6. Revise § 303.20 to read as follows:

§ 303.20 Registered identification numbers.

(a) Registered numbers for use as the required identification in lieu of the name on textile fiber product labels, as provided in section 4(b)(3) of the Act, will be issued by the Commission to qualified persons residing in the United States upon receipt of an application duly executed on the Commission's Web site at https://rn.ftc.gov or by such means as the Commission or its designee may direct.

(b)(1) Registered identification numbers shall be used only by the person or concern to whom they are issued, and such numbers are not transferable or assignable.

(2) Registered identification numbers shall be subject to cancellation whenever any such number was procured or has been used improperly or contrary to the requirements of the Acts administered by the Federal Trade Commission, and regulations promulgated thereunder, or when otherwise deemed necessary in the public interest.

(3) Registered identification numbers shall be subject to cancellation if the Commission fails to receive prompt notification of any change in name, business address, or legal business status of a person or firm to whom a registered identification number has been assigned, by application duly executed on the Commission's Web site at https://rn.ftc.gov or by such means as the Commission or its designee may direct.

(c) Registered identification numbers assigned under this section may be used on labels required in labeling products subject to the provisions of the Wool Products Labeling Act and Fur Products Labeling Act, and numbers previously assigned by the Commission under such Acts may be used as and for the required name in labeling under this Act. When so used by the person or firm to whom assigned, the use of the numbers shall be construed as identifying and binding the applicant as fully and in all respects as though assigned under the specific Act for which it is used.

(d) Requests for a registered identification number, to update information pertaining to an existing number, or to cancel an existing number shall be made through the Commission's Web site at https://rn.ftc.gov. Unless otherwise directed by the Commission or its designee, requests made by other means (including but not limited to email) will not be accepted and approved.

By direction of the Commission.
Donald S. Clark,
Secretary.

[FR Doc. 2017-19868 Filed 9-18-17; 8:45 am]

BILLING CODE 6750-01-P